DEPARTMENT OF COMMERCE

National Oceanic and Atmospheric Administration

RIN 0648-XG447

Fisheries of the Caribbean, Gulf of Mexico, and South Atlantic; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from Bradford Whipple and Howard Rau. If granted, the EFP would authorize the applicants to deploy golden crab traps and commercially fish on a limited basis for golden crab in the Federal waters of the Gulf of Mexico (Gulf). The project seeks to collect information on the effectiveness of golden crab traps in the Gulf and the viability of a commercial golden crab fishery in the Gulf.

DATES: Written comments must be received on or before October 31, 2018.

ADDRESSES: You may submit comments on the application, identified by “NOAA-NMFS-2018-0108” by any of the following methods:

• Electronic Submission: Submit all electronic public comments via the Federal e-Rulemaking Portal. Go to www.regulations.gov/#!docketDetail;D=NOAA-NMFS-2018-0108, click the “Comment Now!” icon, complete the required fields, and enter or attach your comments.

• Mail: Karla Gore, Southeast Regional Office, NMFS, 263 13th Avenue South, St. Petersburg, FL 33701.

• Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the applications may be obtained from the Southeast Regional Office website at http://sero.nmfs.noaa.gov/sustainable_fisheries/gulf_fisheries/LOA_and_EFP/index.html.

FOR FURTHER INFORMATION CONTACT: Karla Gore, 727-824-5305; email: karla.gore@noaa.gov.

SUPPLEMENTARY INFORMATION: The EFP is requested under the authority of the Magnuson-Stevens Fishery Conservation and Management Act (16 U.S.C. 1801 et seq.), and regulations at 50 CFR 600.745(b) concerning exempted fishing.

The Gulf of Mexico Fishery Management Council (Council) and NMFS do not manage the harvest of golden crab in Federal waters of the Gulf. However, the use or possession of a fish trap in Federal waters in the Gulf is prohibited (50 CFR 622.9(c)), and a “fish trap” is any trap capable of taking finfish, except for a trap historically used in the directed fishery for crustaceans (that is, blue crab, stone crab, and spiny lobster) (50 CFR 622.2). Therefore, golden crab traps are a prohibited gear in Gulf Federal waters.

If granted, the EFP would exempt the applicants from the prohibition on the use or possession of a fish trap in Federal waters of the Gulf to allow the testing of various golden crab trap designs and fishing configurations to determine if a commercial golden crab fishery is viable in the Gulf. Additionally, because most of the information and data on golden crab in the Gulf is at least 20 years old, this project would allow for the collection of new information on golden crab in the Gulf. The applicants have requested the EFP be effective for 2 years. During that time, the applicants would collect information on harvest rates, soak time, effectiveness of the various trap style, bycatch, and crab quality. The project design is intended to avoid impacts to non-target species, protected species, and habitats.

As described in the application, the applicants would test the catch efficiency of four different golden crab trap configurations that are currently used in the South Atlantic golden crab fishery. The two vessels to be used in the EFP would deploy a maximum of two strings of 6 to 40 traps per trip. The traps would be baited with fish carcasses and trap soak times would range from overnight up to 17 days depending on trap type and location. Sampling would occur year-round and the applicants expect to set and haul the traps a maximum of 60 times over the course of the 2-year project. At any time, there would be no more than 100 golden crab traps deployed on the seafloor during the project. Setting and hauling of the traps will occur during all hours.

The golden crab trap gear would be deployed in the southeastern Gulf, on mud bottom. From south to north, the gear would be set, between 25° and 28° north latitude with the western gear boundary ranging from 84.20° to 85.40° west longitude in depths ranging from 1,800 to 2,600 ft (548.6 m to 792.4 m). The 1,800 ft (548.6 m) contour will also mark the eastern boundary for gear deployment. This location is west of southwest Florida and outside the range of any other known directed-fishery operating in the Gulf, including the deep-water shrimp fishery. The applicants have agreed to avoid areas of known coral habitats and have communicated with the members of the Council's Scientific and Statistical Committee to identify these coral locations. This project area is also outside the boundaries of both the Flower Garden Banks National Marine Sanctuary and the Florida Keys National Marine Sanctuary. However, the project area is close to Bryde's whale habitat and part of the project area overlaps with an area where sperm whales are known to be present.

As described in the application, the traps to be tested would be of various shapes (rectangle, square and round), various sizes (from 6 ft by 6 ft by 2 ft to 2 ft by 3 ft by 4 ft, (1.8 m by 1.8 m by 0.6 m to 0.6 m by 0.9 m by 1.2 m)), and have different mesh sizes (1.5 inch to 4 inch (3.8 cm to 10.2 cm)). The traps would also have different types of entrances, including top entrances from 8 inch by 8 inch (20.3 cm by 20.3 cm) to 9 inch by 9 inch (22.9 cm by 22.9 cm), and on circle traps, top funnels that are 3 feet (0.9 m) in diameter. One variation of trap would include a 4-inch by 6-inch (10.2 cm to 15.2 cm) side entrance. All of the traps would have the same size escape gap (3 inches by 4 inches (7.6 cm by 10.2 cm)) and would be constructed of steel or rebar frames covered in vinyl-coated mesh. The weight of each trap is estimated to range from 50 lb to 100 lb (23 to 45 kg), depending on the design used.

Each trap location would be marked on the vessel's global positioning system (GPS) before deployment to ensure ease of retrieval. There would be no buoy lines to the surface and the gear would be set in muddy bottom habitat. Sophisticated sounder technology on each vessel is capable of identifying bottom characteristics that are suitable habitat (muddy bottom) for golden crab traps and fishing while avoiding coral habitat.

The applicants would conduct the testing using two vessels issued South Atlantic commercial golden crab permits. Vessel crew would keep detailed records during the sampling trips, including the location of the trip, set and haul date and time, species harvested, impacts on bottom features, trap efficiency, and any bycatch. This information would be shared with the Council and NMFS. Landings information would be collected through the vessel trip ticket program and any golden crab landed from the project would only be sold to federally licensed dealers.

The Council reviewed the EFP application at its April 2018 meeting, provided comments related to avoiding both coral areas and conflicts with shrimp vessels, and recommended that NMFS approve the application. NMFS finds the application warrants further consideration. Possible conditions the agency may impose on the permit, if granted, include but are not limited to, a prohibition on conducting research in known coral areas, marine protected areas, marine sanctuaries, special management zones, or areas where they might interfere with managed fisheries without additional authorization. Additionally, NMFS may require special protections for marine mammals, ESA-listed species and designated critical habitat, and may require particular gear markings. A final decision on issuance of the EFP will depend on NMFS' review of public comments received on the application, consultations with the appropriate fishery management agencies of the affected states, and the U.S. Coast Guard, as well as a determination that it is consistent with all applicable laws.

Authority: 16 U.S.C. 1801 et seq.

Dated: October 11, 2018.
Margo B. Schulze-Haugen,
Acting Director, Office of Sustainable Fisheries, National Marine Fisheries Service.

[FR Doc. 2018-22487 Filed 10-15-18; 8:45 am]

BILLING CODE 3510-22-P